DEPARTMENT OF TRANSPORTATION

Surface Transportation Board

[STB Finance Docket No. 34973]

Burlington Shortline Railroad, Inc., d/b/a Burlington Junction Railway—Lease and Operation Exemption—BNSF Railway Company

Burlington Shortline Railroad, Inc., d/b/a Burlington Junction Railway (BJRY), a Class III rail carrier, has filed a verified notice of exemption under 49 CFR 1150.41 to lease and operate, pursuant to an agreement with BNSF Railway Company (BNSF), approximately 1.2 miles of railroad properties consisting of certain trackage, real property, and railroad operating rights. The rail properties consist of five tracks, numbered 2001, 2002, 2003, 2012, and 2013, located at Ottumwa, IA. There are no mileposts.

Based on projected revenues for the line, BJRY expects to remain a Class III rail carrier. BJRY certifies that its projected annual operating revenues as a result of the transaction will not exceed $5 million. The transaction is expected to be consummated on January 14, 2007.

If the verified notice contains false or misleading information, the exemption is void ab initio. Petitions to revoke the exemption under 49 U.S.C. 10502(d) may be filed at any time. The filing of a petition to revoke will not automatically stay the transaction.

An original and 10 copies of all pleadings, referring to STB Finance Docket No. 34973, must be filed with the Surface Transportation Board, 1925 K Street, NW., Washington, DC 20423-0001. In addition, a copy of each pleading must be served on: (1) for BJRY, John D. Heffner, John D. Heffner, PLLC, 1920 N Street, NW., Suite 800, Washington, DC 20036; and (2) for BNSF, Sarah Bailiff, 2650 Lou Menk Drive, Fort Worth, TX 76131.

Board decisions and notices are available on our Web site at www.stb.dot.gov.

Decided: December 20, 2006.
By the Board, David M. Konschnik, Director, Office of Proceedings.
Vernon A. Williams,
Secretary.

[FR Doc. E6-22137 Filed 12-27-06; 8:45 am]

BILLING CODE 4915-01-P